DEPARTMENT OF COMMERCE

International Trade Administration

[A-423-812]

Certain Carbon and Alloy Steel Cut-to-Length Plate From Belgium: Final Results of Antidumping Duty Administrative Review and Final Determination of No Shipments; 2021-2022

AGENCY: Enforcement and Compliance, International Trade Administration, Department of Commerce.

SUMMARY: The U.S. Department of Commerce (Commerce) determines that Industeel Belgium S.A. (Industeel) made sales of subject merchandise at less than normal value during the period of review (POR), May 1, 2021, through April 30, 2022.

DATES: Applicable December 14, 2023.

FOR FURTHER INFORMATION CONTACT: Steven Seifert or Jerry Xiao, AD/CVD Operations, Office II, Enforcement and Compliance, International Trade Administration, U.S. Department of Commerce, 1401 Constitution Avenue NW, Washington, DC 20230; telephone: (202) 482-3350 and (202) 482-2273, respectively.

SUPPLEMENTARY INFORMATION:

Background

On May 31, 2023, Commerce published in the Federal Register the preliminary results of the 2021-2022 administrative review ¹ of the antidumping duty order on certain carbon and alloy steel cut-to-length plate from Belgium.² In July 2023, we received a case brief from Nucor Corporation (the petitioner) and a rebuttal brief from Industeel.³ On September 26, 2023, we extended the deadline for the final results until December 12, 2023.⁴ For a description of the events that occurred since the Preliminary Results, see the Issues and Decision Memorandum.⁵ Commerce conducted this administrative review in accordance with section 751 of the Tariff Act of 1930, as amended (the Act).

¹ See Certain Carbon and Alloy Steel Cut-to-Length Plate from Belgium: Preliminary Results of Antidumping Duty Administrative Review and Preliminary Determination of No Shipments; 2021-2022, 88 FR 39229 (June 15, 2023) (Preliminary Results), and accompanying Preliminary Decision Memorandum.

² See Certain Carbon and Alloy Steel Cut-To-Length Plate from Austria, Belgium, France, the Federal Republic of Germany, Italy, Japan, the Republic of Korea, and Taiwan: Amended Final Affirmative Antidumping Determinations for France, the Federal Republic of Germany, the Republic of Korea, and Taiwan, and Antidumping Duty Orders, 82 FR 24096 (May 25, 2017) (Order).

³ See Petitioner's Letter, “Nucor's Case Brief and Hearing Request,” dated July 17, 2023; see also Industeel's Letter, “Industeel's Rebuttal Brief,” dated July 27, 2023.

⁴ See Memorandum, “Extension of Deadline for Final Results of Antidumping Duty Administrative Review,” dated September 26, 2023.

⁵ See Memorandum, “Issues and Decision Memorandum for the Final Results of the 2021-2022 Administrative Review of the Antidumping Duty Order on Certain Carbon and Alloy Steel Cut-To-Length Plate from Belgium,” dated concurrently with, and hereby adopted by, this notice (Issues and Decision Memorandum).

Scope of the Order

The products covered by the Order are certain carbon and alloy steel plate from Belgium. A complete description of the merchandise subject to the Order is contained in the Issues and Decision Memorandum.

Analysis of Comments Received

All issues raised in the case and rebuttal briefs filed by parties in this administrative review are addressed in the Issues and Decision Memorandum and are listed in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on a review of the record and comments received from interested parties regarding the Preliminary Results, and for the reasons explained in the Issues and Decision Memorandum, we made certain changes to the preliminary weighted-average margin calculation for Industeel for the final results or review.⁶

⁶ See Issues and Decision Memorandum.

Final Determination of No Shipments

In the Preliminary Results, we found that NLMK Belgium did not have shipments of subject merchandise during the POR.⁷ No party comments on this preliminary finding. Therefore, for the final results of this review, we continue to find that NLMK Belgium did not have any shipments of subject merchandise during the POR.⁸

⁷ See Preliminary Results, 88 FR 39229 and PDM at the section titled, “Preliminary Determination of No Shipments.” NLMK Belgium is comprised of: NLMK Clabecq S.A.; NLMK Plate Sales S.A.; NLMK Sales Europe S.A.; NLMK Manage Steel Center S.A.; and NLMK La Louviere S.A.

⁸ See Issues and Decision Memorandum at the section titled, “Final Determination of No Shipments.”

Final Results of Review

As a result of this review, we determine that the following weighted-average dumping margin exists for the period May 1, 2021, through April 30, 2022:

Producer/exporter | Weighted- average dumping margin (percent)
Industeel Belgium S.A | 2.65

Disclosure

Commerce intends to disclose the calculations performed in connection with these final results of review to parties within five days after public announcement of the final results or, if there is no public announcement, within five days of the date of publication of the notice of final results in the Federal Register, in accordance with 19 CFR 351.224(b).

Assessment Rates

Pursuant to section 751(a)(2)(C) of the Act, and 19 CFR 351.212(b)(1), Commerce will determine, and U.S. Customs and Border Protection (CBP) shall assess, antidumping duties on all appropriate entries of subject merchandise in accordance with the final results of this review.

Pursuant to 19 CFR 351.212(b)(1), we calculated importer-specific ad valorem duty assessment rates based on the ratio of the total amount of dumping calculated for the examined sales to the total entered value of the sales. Where either the respondent's weighted-average dumping margin is zero or de minimis, within the meaning of 19 CFR 351.106(c)(1), or an importer-specific rate is zero or de minimis, we will instruct CBP to liquidate the appropriate entries without regard to antidumping duties.

For entries of subject merchandise during the POR produced by Industeel for which it did not know that its merchandise was destined for the United States, we will instruct CBP to liquidate unreviewed entries at the all-others rate established in the less-than-fair-value (LTFV) investigation of 5.40 percent ad valorem,⁹ if there is no rate for the intermediate company(ies) involved in the transaction.

⁹ See Order.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

Upon publication of this notice in the Federal Register, the following cash deposit requirements will be effective for all shipments of the subject merchandise entered, or withdrawn from warehouse, for consumption on or after the publication date of the final results of this administrative review, as provided by section 751(a)(2)(C) of the Act: (1) the cash deposit rate for Industeel will be will be equal to the weighted-average dumping margin established in the final results of this review; (2) for merchandise exported by producers or exporters not covered in this review but covered in a prior completed segment of the proceeding, the cash deposit rate will continue to be the company-specific rate published in the completed segment for the most recent period; (3) if the exporter is not a firm covered in this review, a prior review, or the original LTFV investigation, but the producer has been covered in a prior completed segment of this proceeding, then the cash deposit rate will be the rate established in the completed segment for the most recent period for the producer of the merchandise; and (4) the cash deposit rate for all other producers or exporters will continue to be 5.40 percent, the all-others rate established in the LTFV investigation for this proceeding.¹⁰ These cash deposit requirements, when imposed, shall remain in effect until further notice.

¹⁰ See Order.

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Administrative Protective Order

This notice serves as the only reminder to parties subject to an administrative protective order (APO) of their responsibility concerning the disposition of proprietary information disclosed under APO in accordance with 19 CFR 351.305(a)(3), which continues to govern business proprietary information in this segment of the proceeding. Timely written notification of return/destruction of APO materials or conversion to judicial protective order is hereby requested. Failure to comply with the regulations and the terms of an APO is a violation subject to sanction.

Notification to Interested Parties

We are issuing and publishing this notice in accordance with sections 751(a)(1) and 777(i) of the Act.

Dated: December 8, 2023.
Abdelali Elouaradia,
Deputy Assistant Secretary for Enforcement and Compliance.

Appendix

List of Topics Discussed in the Issues and Decision Memorandum

I. Summary

II. Background

III. Scope of the Order

IV. Final Determination of No Shipments

V. Changes Since the Preliminary Results

VI. Discussion of the Issues

Comment 1: Adjustment to Cost of Manufacturing (COM)

Comment 2: Adjustments under the Major Input Rule

Comment 3: Selection of the Correct Universe of Sales for Industeel for the POR and Calculation of Home Market Commissions

VII. Recommendation

[FR Doc. 2023-27493 Filed 12-13-23; 8:45 am]

BILLING CODE 3510-DS-P